INTERNATIONAL TRADE COMMISSION

[Inv. No. 337-TA-523]

In the Matter of Certain Optical Disk Controller Chips and Chipsets and Products Containing Same, Including DVD Players and PC Optical Storage Devices II; Notice of Commission Decision Not To Review an Initial Determination Granting a Motion To Amend the Complaint and Notice of Investigation To Add an Additional Respondent and Another Patent

AGENCY: U.S. International Trade Commission.

ACTION: Notice.

SUMMARY: Notice is hereby given that the U.S. International Trade Commission has determined not to review the presiding administrative law judge's (“ALJ's”) initial determination (“ID”) (Order No. 5) granting a motion to amend the complaint and notice of investigation to add Sunext Technology Co., Ltd. of Hsin-Chu City, Taiwan (“Sunext”) as a respondent and certain claims of U.S. Patent No. 6,170,043 (“the ‘043 patent”).

FOR FURTHER INFORMATION CONTACT: Clara Kuehn, Esq., Office of the General Counsel, U.S. International Trade Commission, 500 E Street, SW., Washington, DC 20436, telephone (202) 205-3012. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on August 31, 2004, based on a complaint filed on behalf of MediaTek Corporation (“complainant”) of Hsin-Chu City, Taiwan. 69 FR 53089 (Aug. 31, 2004). The complaint, as supplemented, alleged violations of section 337 in the importation into the United States, sale for importation, and sale within the United States after importation of certain optical disk controller chips and chipsets by reason of infringement of claims 1, 3-6, and 8-10 of U.S. Patent No. 5,970,031 and claims 1-4 of U.S. Patent No. 6,229,773. Id. The notice of investigation named two respondents: Zoran Corporation of Sunnyvale, CA and Oak Technology, Inc. of Sunnyvale, CA (collectively “respondents”). Id.

On September 24, 2004, complainant moved pursuant to Commission rule 210.14(b) to amend the complaint and notice of investigation to add Sunext as a respondent and to add another patent, viz., claims 1-2, 5-6, 15-19, and 21-22 of the ‘043 patent to the scope of the investigation. On October 6, 2004, the Commission investigative attorney filed a response supporting the motion. On the same day, respondents filed a response opposing the motion.

On October 7, 2004, the ALJ issued an ID (Order No. 5) granting the motion to amend the complaint and notice of investigation.

No party petitioned for review of the ID.

The authority for the Commission's determination is contained in section 337 of the Tariff Act of 1930, as amended (19 U.S.C. 1337), and in section 210.42 of the Commission's Rules of Practice and Procedure (19 CFR 210.42).

By order of the Commission.
Issued: November 1, 2004.
Marilyn R. Abbott,
Secretary to the Commission.

[FR Doc. 04-24693 Filed 11-4-04; 8:45 am]

BILLING CODE 7020-02-P